DEPARTMENT OF JUSTICE

[OMB No. 1121-0292]

Agency Information Collection Activities: Existing Collection; Comments Requested: Extension and Revision of a Currently Approved Collection; Survey of Sexual Victimization (Formerly Known as the Survey of Sexual Violence)

ACTION: 30-Day Notice.

The Department of Justice (DOJ), Bureau of Justice Statistics (BJS) will be submitting the following information collection request to the Office of Management and Budget (OMB) for review and approval in accordance with the Paperwork Reduction Act of 1995. The proposed information collection is published to obtain comments from the public and affected agencies. This proposed information collection was previously published in the Federal Register Volume 79, Number 6, pages 1657-1658, on January 9, 2014, allowing for a 60 day comment period.

The purpose of this notice is to allow for an additional 30 days for public comment until April 14, 2014. This process is conducted in accordance with 5 CFR 1320.10.

If you have comments especially on the estimated public burden or associated response time, suggestions, or need a copy of the proposed information collection instrument with instructions or additional information, please contact Allen J. Beck, Bureau of Justice Statistics, 810 Seventh Street NW., Washington, DC 20531 (phone: 202-616-3277).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Existing collection with change.

(2) Title of the Form/Collection: Survey of Sexual Victimization.

(3) Agency form number, if any, and the applicable component of the Department of Justice sponsoring the collection: Form Number: SSV1, SSV2, SSV3, SSV4, SSV5, SSV6; SSV-IA, SSV-IJ; Bureau of Justice Statistics, Department of Justice.

(4) Affected public who will be asked or required to respond, as well as a brief abstract: Primary: State, Local, or Tribal Government. Other: Federal Government, Business or other for-profit, Not-for-profit institutions. The data will be used to develop estimates for the incidence and prevalence of sexual assault within correctional facilities as required under the Prison Rape Elimination Act of 2003 (Pub. L. 108-79).

(5) An estimate of the total number of respondents and the amount of time estimated for an average respondent to respond: It is estimated that 102 adult and juvenile systems will complete the summary form (SSV-1, SSV-2, SSV-5) in 60 minutes on average and that 1,436 facilities will complete the summary form (SSV-3, SSV-4, and SSV-6) in 30 minutes on average. It is estimated that about 1,064 incident forms (SSV-IA, SSV-IJ) will be completed, and they will take 30 minutes to complete on average.

(6) An estimate of the total public burden (in hours) associated with the collection: There are an estimated 1,353 total annual burden hours associated with this collection.

If additional information is required contact: Ms. Jerri Murray, Department Clearance Officer, United States Department of Justice, Justice Management Division, Policy and Planning Staff, Two Constitution Square, 145 N Street NE., Room 3W-1407B, Washington, DC 20530.

Dated: March 11, 2014.
Jerri Murray,
Department Clearance Officer for PRA, U.S. Department of Justice.

[FR Doc. 2014-05663 Filed 3-13-14; 8:45 am]

BILLING CODE 4410-18-P